ENVIRONMENTAL PROTECTION AGENCY

[EPA-R06-OW-2022-0371; FRL-9257-01-R6]

Proposed Issuance of the NPDES General Permit for Discharges From Hydrostatic Testing of New and Existing Vessels in New Mexico (NMG270000), Oklahoma (OKG27F000), and Indian Country Within the States of Texas, Oklahoma, New Mexico, and Louisiana (TXG27I000, OKG27I000, NMG27I000, & LAG27I000)

AGENCY: Environmental Protection Agency (EPA).

ACTION: Notice of proposed NPDES General Permit Issuance.

SUMMARY: The Environmental Protection Agency (EPA) Region 6 Water Division, is proposing for public comment the issuance of a National Pollutant Discharge Elimination System (NPDES) general permit authorizing discharges resulting from the hydrostatic testing of new and existing vessels (e.g., pipelines, storage tanks, etc.) in New Mexico (NMG270000) and Oklahoma (OKG27F000). This authorization also covers Indian Country within the States of Texas, Oklahoma, New Mexico, and Louisiana (TXG27I000, OKG27I000, NMG27I000, & LAG27I000).

To determine whether your facility, company, business, organization, etc., may be affected by this action, you should carefully examine the applicability criteria in Part I, Section A.3 of the draft permit. If you have questions regarding the applicability of this action to a particular entity, consult the person listed for technical information in the preceding FOR FURTHER INFORMATION CONTACT section.

DATES: Comments must be submitted in writing to EPA on or before June 27, 2022.

Proposed Documents: A copy of the proposed permit and the fact sheet which sets forth principal facts and the significant factual, legal, and policy questions considered in the development of the proposed general permit may be obtained via the internet at: https://www.epa.gov/publicnotices. To obtain hard copies of these documents or any other information in the administrative record, please contact Ms. Evelyn Rosborough using the contact information provided below.

Other Legal Requirements

A. State/Tribal Certification

Under section 401(a)(1) of the CWA, EPA may not issue an NPDES permit until the State or Tribe in which the discharge will occur grants or waives certification to ensure compliance with appropriate requirements of the CWA and State/Tribal law. EPA will seek certification from the New Mexico Environment Department, Oklahoma Department of Environmental Quality, and the respective Tribe within the States of Texas, Oklahoma, New Mexico and Louisiana prior to issuing a final permit. EPA is the certifying authority and certifies the permit for areas where neither a state nor tribe has CWA 401(a)(1) certification authority.

B. Other Regulatory Requirements

This is a first-time permit issuance. EPA had conducted evaluations required by Coastal Zone Management Act, Endangered Species Act, Magnuson-Stevens Fishery Conservation and Management Act, Historic Preservation Act, Paperwork Reduction Act, and Regulatory Flexibility Act. These requirements are discussed in the fact sheet.

How do I comment on this proposal?

Comment Submittals: You may send comments, identified by Docket ID. No. EPA-R06-OW-2022-0371 by any of the following methods:

• Federal eRulemaking Portal: https://www.regulations.gov/ (our preferred method).

• By Email: Send comments by email to rosborough.evelyn@epa.gov. Include Docket ID. No EPA-R06-OW-2022-0371 in the subject line of the email.

• By Mail/Hand Delivery/Courier: Deliver comments to U.S. EPA, Attn: Evelyn Rosborough, 1201 Elm Street, Dallas, Texas 75270.

• We encourage the public to submit comments via www.Regulations.gov or via email as there may be a delay in processing mail and hand deliveries will be accepted by appointment only due to public health concerns related to COVID-19.

• Please submit your comments within the specified time period cited in the DATES section of this document. Comments received after the close of the comment period will be marked “late”. The EPA is not required to consider these late comments. All comments received by the EPA in accordance with this section by the ending date of the comment period will be considered by the EPA before a final decision is made regarding permit issuance.

• Once submitted, comments cannot be edited or removed from the docket. The EPA may publish any comment received to its public docket.

Do not submit to EPA's docket or email any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

For Technical Information Contact: Maria Okpala, NPDES Permitting Section (6WD-PE), U.S. Environmental Protection Agency, 1201 Elm Street, Suite 500, Dallas, TX 75270; Telephone: (214) 665-3152; email address: okpala.maria@epa.gov.

Administrative record: All documents and references used in the development of this permit are part of the Administrative Record for this permit. Although listed in the index, some information is not publicly available, e.g., CBI or other information whose disclosure is restricted by statute. Certain other material, such as copyrighted material, will be publicly available only in hard copy. Publicly available materials are available either electronically or in hard copy from Ms. Evelyn Rosborough at the address above. The Administrative Record may also be viewed at the EPA Region 6 Offices from 8:30 a.m. to 4:30 p.m., Monday through Friday, excluding legal holidays. For more information on scheduling a time to view the Record or to obtain copies of available documents, please contact Ms. Evelyn Rosborough at 214-665-7515 or rosborough.evelyn@epa.gov.

Public Hearings

All persons have the right to provide written comments during the public comment period. However, interested persons may request a public hearing pursuant to 40 CFR 124.12 concerning the proposed permit. Requests for a public hearing must be sent or delivered in writing to the same address as provided above for public comments prior to the close of the comment period. Requests for a public hearing must state the nature of the issues proposed to be raised in the hearing. Pursuant to 40 CFR 124.12, EPA shall hold a public hearing if it finds, on the basis of requests, a significant degree of public interest in a public hearing on the proposed permit. If EPA decides to hold a public hearing, a public notice of the date, time and place of the hearing will be made at least 30 days prior to the hearing. Any person may provide written or oral statements and data pertaining to the proposed permit at the public hearing.

Authority: Clean Water Act, 33 U.S.C. 1251 et seq.

Charles W. Maguire,
Director, Water Division, EPA Region 6.

[FR Doc. 2022-09017 Filed 4-27-22; 8:45 am]

BILLING CODE 6560-50-P